DEPARTMENT OF ENERGY

Federal Energy Regulatory Commission

Notice of Transfer of Licenses and Soliciting Comments, Protests, and Motions To Intervene

August 3, 2001.

Take notice that the following hydroelectric application has been filed with the Commission and is available for public inspection:

a. Application Type: Transfer of Licenses.

b. Project Nos: 2255-050, 2291-065, and 2292-052.

c. Date Filed: July 17, 2001.

d. Applicants: Nekoosa Papers, Inc. (Nekoosa) and Domtar Wisconsin Dam Corp. (Domtar Wisconsin).

e. Name and Location of Projects: The Centralia Project No. 2255, the Port Edwards Project No. 2291, and the Nekoosa Project No. 2292 are located on the Wisconsin River in Wood County, Wisconsin. These projects do not occupy federal or tribal lands.

f. Filed Pursuant to: Federal Power Act, 16 U.S.C. 791(a)—825(r).

g. Applicant Contacts: For Nekoosa: Mr. Matthew D. Manahan, Pierce Atwood, One Monument Square, Portland, ME 04101, (207) 791-1189. For Domtar Wisconsin: Mr. Sean Mahoney, Verrill & Dana, LLP, One Portland Square, P.O. Box 586, Portland, ME 04112, (207) 774-4000.

h. FERC Contact: James Hunter, (202) 219-2839.

i. Deadline for filing comments and or motions: September 7, 2001.

All documents (original and eight copies) should be filed with: David P. Boergers, Secretary, Federal Energy Regulatory Commission, 888 First Street, NE, Washington DC 20426. Comments, protests and interventions may be filed electronically via the Internet in lieu of paper. See, 18 CFR 385.2001(a)(1)(iii) and the instructions on the Commission's web site under the “e-Filing” link. Please include the noted project numbers on any comments or motions filed.

j. Description of Proposal: The Applicants propose a transfer of the licenses for the Centralia, Port Edwards, and Nekoosa hydroelectric projects from Nekoosa to Domtar Wisconsin. The transfer is sought in connection with Domtar Wisconsin's intended acquisition of the project resources from Nekoosa. The Applicants state that the personnel who currently manage and operate the projects for Nekoosa will continue to do so for Domtar Wisconsin.

k. Locations of the application: Copies of this filing are on file with the Commission and are available for public inspection. This filing may be viewed on the Commission's web site at http://www.ferc.gov using the “RIMS” link, select “Docket #” and follow the instructions ((202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-19986 Filed 8-8-01; 8:45 am]

BILLING CODE 6717-01-P